DEPARTMENT OF THE INTERIOR

National Park Service

National Register of Historic Places; Weekly Listing of Historic Properties

Pursuant to (36 CFR 60.13(b,c)) and (36 CFR 63.5), this notice, through publication of the information included herein, is to apprise the public as well as governmental agencies, associations and all other organizations and individuals interested in historic preservation, of the properties added to, or determined eligible for listing in, the National Register of Historic Places from January 26 to January 30, 2009.

For further information, please contact Edson Beall via: United States Postal Service mail, at the National Register of Historic Places, 2280, National Park Service, 1849 C St. NW., Washington, DC 20240; in person (by appointment), 1201 Eye St. NW., 8th floor, Washington, DC 20005; by fax, 202-371-2229; by phone, 202-354-2255; or by e-mail, Edson_Beall@nps.gov.

Dated: March 10, 2009.
J. Paul Loether,
Chief, National Register of Historic Places/National Historic Landmarks Program.

Key: State, County, Property Name, Address/Boundary, City, Vicinity, Reference Number, Action, Date, Multiple Name

Alabama, Jefferson County

Ramsay-McCormack Building,

1823-1825 Avenue E,

Birmingham, 08001273,

Listed, 1/30/09.

Arkansas, Hempstead County

Southwestern Proving Ground Building No. 129,

195 Hempstead Co. Rd. 279,

Hope, 08001373,

Listed, 1/29/09

(World War II Home Front Efforts in Arkansas, MPS).

Arkansas, Nevada County

Camden to Washington Road-Rosston Segment,

Nevada Co. Rd. 10,

Rosston vicinity, 08001374,

Listed, 1/29/09.

Arkansas, Yell County

Dardanelle Commercial Historic District,

Roughly bounded by Front, Oak, 2nd and Pine Sts.,

Dardanelle, 08001039,

Listed, 1/28/09.

Colorado, Boulder County

Arnett-Fullen House,

646 Pearl St.,

Boulder, 08001376,

Listed, 1/29/09.

District of Columbia, District of Columbia State Equivalent

First African New Church,

2105-07 10th St., NW.,

Washington, DC, 08001375,

Listed, 1/29/09.

Iowa, Jones County

Anamosa Main Street Historic District,

200-300 block W. Main St., 100 block E. Main St., 100 block N. and S. Ford St., 100 block N. Garnavillo St.,

Anamosa, 08001381,

Listed, 1/29/09.

Iowa, Page County

Iowan's Hotel,

508 E. Railroad St.,

Essex, 08001382,

Listed, 1/29/09.

Missouri, Adair County

Smith, Dr. E. Sanborn, House,

111 E. Patterson St.,

Kirksville, 08001385,

Listed, 1/30/09.

Missouri, Buchanan County

Buchanan County Infirmary,

3500 N. Village Dr.,

Saint Joseph, 08001386,

Listed, 1/29/09.

Missouri, Jackson County

Dierks Building,

1000-1006 Grand Blvd.,

Kansas City, 08001387,

Listed, 1/29/09.

Montana, Chouteau County

Eagle Butte School,

Eagle Butte School Rd., 23 mi. off MT 80,

Fort Benton vicinity, 08001383,

Listed, 1/28/09.

Montana, Fergus County

Hagadone, Frank, Homestead,

Missouri River, Mile No. 97,

Fergus County vicinity, 08001384,

Listed, 1/29/09.

Nevada, Clark County

Walking Box Ranch,

6333 W. NV 164,

Searchlight vicinity, 08001392,

Listed, 1/30/09.

North Carolina, Wake County

Welles, Paul and Ellen, House,

3227 Birnamwood Rd.,

Raleigh, 08001388,

Listed, 1/29/09.

North Carolina, Watauga County

Miller, John Smith, House,

561 Chestnut Grove Rd.,

Boone vicinity, 08001389,

Listed, 1/29/09.

North Carolina, Wilkes County

Hubbard, Benjamin, House,

US 18 on the N., one mile E. of NC 1106,

Moravian Falls vicinity, 08001390,

Listed, 1/29/09.

North Carolina, Yancey County

Bald Creek Historic District,

Both sides of Bald Creek School Rd., 76-239 Pleasant Valley Rd., and 6193-6195 U.S. 19E,

Burnsville, 08001391,

Listed, 1/29/09.

Oregon, Multnomah County

Bunyan, Paul, Statue, SW. corner of N. Denver Ave. and N. Interstate Ave.,

Portland, 08001393,

Listed, 1/28/09.

South Carolina, Richland County

Pine Grove Rosenwald School,

937 Piney Woods Rd.,

Columbia, 08001397,

Listed, 1/29/09

(Rosenwald School Building Program in South Carolina, 1917-1932).

South Carolina, Richland County

Wesley Methodist Church,

1727 Gervais St.,

Columbia, 08001398,

Listed, 1/29/09

(Segregation in Columbia, South Carolina MPS).

South Carolina, Richland County

Woman's Club of Columbia, The,

1703 Blossom St.,

Columbia, 08001399,

Determined Eligible, 1/29/09.

Texas, Tarrant County

Fort Worth Botanic Garden,

3220 Botanic Garden Blvd.,

Fort Worth, 08001400,

Listed, 1/29/09.

[FR Doc. E9-5507 Filed 3-12-09; 8:45 am]

BILLING CODE 4310-70-P